DEPARTMENT OF VETERANS AFFAIRS

National Research Advisory Council; Notice of Meeting

The Department of Veterans Affairs (VA) gives notice under the Federal Advisory Committee Act, 5 U.S.C., App. 2, that the National Research Advisory Council will hold a meeting on Wednesday, June 11, 2014, in conference room 23, at 131 M St. NE., Washington, DC. The meeting will convene at 9:00 a.m. and end at 4:00 p.m., and is open to the public.

The agenda will include an introduction to the research programs of the Office of Research and Development (ORD) (10P9), review of the Council Charter, and presentations on special research programs.

No time will be allocated at this meeting for receiving oral presentations from the public. Members of the public wanting to submit a presentation, attend the meeting, or needing further information may contact Pauline Cilladi-Rehrer, Designated Federal Officer, ORD (10P9), Department of Veterans Affairs, 810 Vermont Avenue NW, Washington, DC 20420 at (202) 443-5607, or by email at pauline.cilladi-rehrer@va.gov.

Dated: April 21, 2014.
Rebecca Schiller,
Committee Management Officer.

[FR Doc. 2014-09745 Filed 4-28-14; 8:45 am]

BILLING CODE 8320-01-P